DEPARTMENT OF THE TREASURY

Customs Service

Evaluation of and Request for Comments Regarding the Reconciliation Prototype

AGENCY: Customs Service, Treasury.

ACTION: General notice: Solicitation of comments from prototype participants.

SUMMARY: This document requests comments, via participation in a voluntary survey, on the Reconciliation Prototype for the purpose of evaluation and possible revision or expansion of the prototype.

DATES: Surveys must be received by July 10, 2000.

ADDRESSES: For those able to use the electronic survey format, the survey form is available at http://www.customs.gov/recon. Electronic survey responses should be emailed to: Recon.help@customs.treas.gov. For those without access to the internet, contact the following for a hard copy of the survey: U.S. Customs Service, 1300 Pennsylvania Ave., NW, Room 5.2A, Washington, DC 20229-0001, ATTN: Mr. Don Luther or Ms. Shari McCann, Reconciliation Team. Hard copy survey responses should be faxed to the Headquarters Reconciliation Team at (202) 927-1096.

FOR FURTHER INFORMATION CONTACT: Ms. Shari McCann at (202) 927-1106 or Mr. Don Luther at (202) 927-0915.

SUPPLEMENTARY INFORMATION: Customs announced and explained the Automated Commercial System (ACS) Prototype Test of Reconciliation in a general notice document published in the Federal Register (63 FR 6257) on February 6, 1998. Changes and clarifications to the prototype were announced in Federal Register documents published on August 18, 1998 (63 FR 44303), July 21, 1999 (64 FR 39187), and December 29, 1999 (64 FR 73121). Additional information regarding the Reconciliation Prototype can be found at http://www.customs.gov/recon.

The Federal Register notice of February 6, 1998, entitled “Revised National Customs Automation Program Test Regarding Reconciliation,” provided for evaluation of the prototype and strongly encouraged that participants participate in the evaluation process. It set forth various evaluation methods, including the use of questionnaires (surveys). Customs has prepared a survey form that is available at http://www.customs.gov/recon. For those without access to the internet, a survey can be obtained by contacting the following for a hard copy: U.S. Customs Service, 1300 Pennsylvania Ave., NW, Room 5.2A, Washington, DC 20229-0001, ATTN: Mr. Don Luther or Ms. Shari McCann, Reconciliation Team.

This notice requests comments from participants through the survey. Participants should email electronic survey responses to the following address by July 10, 2000: Recon.help@customs.treas.gov. Hard copy survey responses should be faxed to the Headquarters Reconciliation Team at (202) 927-1096. Survey responses will be compiled and used to evaluate the prototype. Results of the survey evaluation will be published in the Federal Register, along with any changes or modifications made to the prototype as suggested by the evaluation.

Dated: June 5, 2000.
Robert J. McNamara,
Acting Assistant Commissioner, Office of Field Operations.

[FR Doc. 00-14509 Filed 6-7-00; 8:45 am]

BILLING CODE 4820-02-P